FEDERAL COMMUNICATIONS COMMISSION

47 CFR Part 73

[DA 00-1053; MM Docket No. 99-270; RM-9703]

Radio Broadcasting Services; Taos, NM

AGENCY: Federal Communications Commission.

ACTION: Final rule.

SUMMARY: The Commission, at the request of Darren Cordova, allots Channel 240A to Taos, NM, as the community's third local FM service. See 64 FR 47484, August 31, 1999. Channel 240A can be allotted to Taos in compliance with the Commission's minimum distance separation requirements with a site restriction of 9.7 kilometers (6.0 miles) southeast, at coordinates 36-21-48 NL; 105-28-51 WL, to avoid a short-spacing to the proposed allotment of Channel 240A at Chama, NM. See, MM Docket 99-116, 64 FR 23036, April 29, 1999. A filing window for Channel 240A at Taos will not be opened at this time. Instead, the issue of opening a filing window for this channel will be addressed by the Commission in a subsequent order.

DATES: Effective June 26, 2000.

FOR FURTHER INFORMATION CONTACT: Leslie K. Shapiro, Mass Media Bureau, (202) 418-2180.

SUPPLEMENTARY INFORMATION: This is a synopsis of the Commission's Report and Order, MM Docket No. 99-270, adopted May 3, 2000, and released May 12, 2000. The full text of this Commission decision is available for inspection and copying during normal business hours in the FCC Reference Center (Room 239), 445 12th Street, SW, Washington, DC. The complete text of this decision may also be purchased from the Commission's copy contractor, International Transcription Services, Inc., (202) 857-3800, 1231 20th Street, NW, Washington, DC 20036.

List of Subjects in 47 CFR Part 73

Radio broadcasting.

Part 73 of title 47 of the Code of Federal Regulations is amended as follows:

PART 73—[AMENDED]

1. The authority citation for part 73 continues to read as follows:

Authority: 47 U.S.C. 154, 303, 334. 336.

§ 73.202 [Amended]

2. Section 73.202(b), the Table of FM Allotments under New Mexico, is amended by adding Channel 240A at Taos.

Federal Communications Commission.
John A. Karousos,
Chief, Allocations Branch, Policy and Rules Division, Mass Media Bureau.

[FR Doc. 00-13593 Filed 5-31-00; 8:45 am]

BILLING CODE 6712-01-P